INTERNATIONAL TRADE COMMISSION

[Investigation No. 337-TA-1020]

Certain Industrial Control System Software, Systems Using Same and Components Thereof; Commission Determination Not To Review an Initial Determination Terminating the Investigation Based on a Settlement Agreement; Termination of the Investigation

AGENCY: U.S. International Trade Commission.

ACTION: Notice.

SUMMARY: Notice is hereby given that the U.S. International Trade Commission has determined not to review an initial determination (“ID”) (Order No. 6) of the presiding administrative law judge (“ALJ”), terminating the above-captioned investigation based on a settlement agreement. The Commission has determined to terminate the investigation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on September 19, 2016, based on a complaint filed on behalf of Rockwell Automation, Inc. of Milwaukee, Wisconsin. 81 FR 64196-97. The complaint, as supplemented, alleged violations of section 337 of the Tariff Act of 1930, as amended, 19 U.S.C. 1337, by reason of infringement of the following U.S. Patent Nos.: 6,675,226; 6,816,817; 6,819,960; 6,978,225; 7,130,704; 7,650,196; 7,693,585; and 8,799,800. The complaint further alleged that a domestic industry exists. The Commission's notice of investigation named 3S-Smart Software Solutions, GmbH of Kempten, Germany; Advantech Corporation of Milpitas, California; and Advantech Co., Ltd. of Taipei City, Taiwan as respondents. The Office of Unfair Import Investigations (“OUII”) is also a party to the investigation.

On November 15, 2016, the complainant and all respondents jointly moved to terminate the investigation based on a settlement agreement. OUII supported the motion.

The ALJ issued the subject ID on December 15, 2016, granting the motion for termination of the investigation. She found that the motion for termination satisfied Commission Rules 210.21(a)(1), (b)(1) and that termination of the investigation is not contrary to the public interest. She also issued a corrected ID on December 19, 2016, to attach a copy of the settlement agreement. No petitions for review were filed.

The Commission has determined not to review the ID and has terminated the investigation.

The authority for the Commission's determination is contained in section 337 of the Tariff Act of 1930, as amended, 19 U.S.C. 1337, and in part 210 of the Commission's Rules of Practice and Procedure, 19 CFR part 210.

By order of the Commission.
Issued: January 10, 2017.
Lisa R. Barton,
Secretary to the Commission.

[FR Doc. 2017-00787 Filed 1-13-17; 8:45 am]

BILLING CODE 7020-02-P